DEPARTMENT OF ENERGY

Federal Energy Regulatory Commission

Combined Notice of Filings #2

Take notice that the Commission received the following electric rate filings:

Docket Numbers: ER10-2727-003; ER10-2729-005; ER10-1469-003; ER13-785-002; ER10-1453-003; ER13-713-002; ER10-1459-007; ER10-2728-005; ER10-1467-003; ER10-1478-005; ER10-1473-003; ER10-1451-003; ER10-1474-003; ER10-2687-003; ER10-2688-006; ER10-1468-003; ER10-2689-006.

Applicants: Allegheny Energy Supply Company, LLC, Buchanan Generation, LLC, The Cleveland Electric Illuminating Company, FirstEnergy Generation, LLC, FirstEnergy Generation Mansfield Unit 1 Corp., FirstEnergy Nuclear Generation, LLC, FirstEnergy Solutions Corp., Green Valley Hydro, LLC, Ohio Edison Company, Pennsylvania Electric Company, Pennsylvania Power Company, Jersey Central Power & Light, Metropolitan Edison Company, Monongahela Power Company, The Potomac Edison Company, The Toledo Edison Company, West Penn Power Company.

Description: Triennial Market Power Update Analysis of the FirstEnergy Companies affiliates located within PJM footprint and specified submarkets authority.

Filed Date: 12/20/13.

Accession Number: 20131220-5430.

Comments Due: 5 p.m. ET 2/18/14.

Docket Numbers: ER14-459-001.

Applicants: PJM Interconnection, L.L.C.

Description: PJM Interconnection, L.L.C. submits Amendment to Notice of Cancellation of First Rev. SA No. 3396; Queue No. V4-009 to be effective 11/25/2013.

Filed Date: 12/23/13.

Accession Number: 20131223-5197.

Comments Due: 5 p.m. ET 1/13/14.

Docket Numbers: ER14-709-000.

Applicants: PJM Interconnection, L.L.C.

Description: PJM Interconnection, L.L.C. submits Errata to Original Service Agreement No. 3674; Queue No. V4-023 to be effective N/A.

Filed Date: 12/23/13.

Accession Number: 20131223-5000.

Comments Due: 5 p.m. ET 1/13/14.

Docket Numbers: ER14-803-000.

Applicants: NorthWestern Corporation.

Description: NorthWestern Corporation submits Second Revised Rate Sch FERC No 242—WECC Unscheduled Flow Mitigation Plan to be effective 12/31/9998.

Filed Date: 12/23/13.

Accession Number: 20131223-5001.

Comments Due: 5 p.m. ET 1/13/14.

Docket Numbers: ER14-804-000.

Applicants: Westar Energy, Inc.

Description: Westar Energy, Inc. submits Revisions to Kansas Electric Power Cooperative, Inc. to be effective 3/1/2014.

Filed Date: 12/23/13.

Accession Number: 20131223-5002.

Comments Due: 5 p.m. ET 1/13/14.

Docket Numbers: ER14-805-000.

Applicants: Westar Energy, Inc.

Description: Westar Energy, Inc. submits Revisions, Full Requirement Electric Service Agreements to be effective 8/31/2010.

Filed Date: 12/23/13.

Accession Number: 20131223-5003.

Comments Due: 5 p.m. ET 1/13/14.

Docket Numbers: ER14-806-000.

Applicants: Southwest Power Pool, Inc.

Description: Southwest Power Pool, Inc. submits 1876R2 KEPCO NITSA NOA to be effective 12/1/2013.

Filed Date: 12/23/13.

Accession Number: 20131223-5113.

Comments Due: 5 p.m. ET 1/13/14.

Docket Numbers: ER14-807-000.

Applicants: Southwest Power Pool, Inc.

Description: Southwest Power Pool, Inc. submits 2028R5 Sunflower Electric Power Corporation NITSA and NOA to be effective 12/1/2013.

Filed Date: 12/23/13.

Accession Number: 20131223-5118.

Comments Due: 5 p.m. ET 1/13/14.

Docket Numbers: ER14-808-000.

Applicants: Southwest Power Pool, Inc.

Description: Southwest Power Pool, Inc. submits 2415R2 Kansas Municipal Energy Agency NITSA and NOA to be effective 12/1/2013.

Filed Date: 12/23/13.

Accession Number: 20131223-5128.

Comments Due: 5 p.m. ET 1/13/14.

Docket Numbers: ER14-809-000.

Applicants: PJM Interconnection, L.L.C.

Description: PJM Interconnection, L.L.C. submits Queue Position V4-023; Original Service Agreement No. 3675 to be effective 11/21/2013.

Filed Date: 12/23/13.

Accession Number: 20131223-5131.

Comments Due: 5 p.m. ET 1/13/14.

Docket Numbers: ER14-810-000.

Applicants: PJM Interconnection, L.L.C.

Description: PJM Interconnection, L.L.C. submits Order No. 784 compliance filing revising the PJM OATT Schedule 3 to be effective 2/24/2014.

Filed Date: 12/23/13.

Accession Number: 20131223-5132.

Comments Due: 5 p.m. ET 1/13/14.

Docket Numbers: ER14-811-000.

Applicants: Bangor Hydro Electric Company.

Description: Bangor Hydro Electric Company submits Filing in Compliance with Order No. 764 to be effective 1/1/2014.

Filed Date: 12/23/13.

Accession Number: 20131223-5145.

Comments Due: 5 p.m. ET 1/13/14.

Docket Numbers: ER14-812-000.

Applicants: Southwest Power Pool, Inc.

Description: Southwest Power Pool, Inc. submits 2463R1 KEPCO NITSA NOA to be effective 12/1/2013.

Filed Date: 12/23/13.

Accession Number: 20131223-5150.

Comments Due: 5 p.m. ET 1/13/14.

Docket Numbers: ER14-813-000.

Applicants: Southwest Power Pool, Inc.

Description: Southwest Power Pool, Inc. submits 2639 Sunflower Electric Power Corporation NITSA NOA to be effective 12/1/2013.

Filed Date: 12/23/13.

Accession Number: 20131223-5156.

Comments Due: 5 p.m. ET 1/13/14.

Docket Numbers: ER14-814-000.

Applicants: Southwest Power Pool, Inc.

Description: Southwest Power Pool, Inc. submits 2640 Sunflower Electric Power Corporation NITSA NOA to be effective 12/1/2013.

Filed Date: 12/23/13.

Accession Number: 20131223-5173.

Comments Due: 5 p.m. ET 1/13/14.

Docket Numbers: ER14-815-000.

Applicants: Southwest Power Pool, Inc.

Description: Southwest Power Pool, Inc. submits 2641 Sunflower Electric Power Corporation NITSA NOA to be effective 12/1/2013.

Filed Date: 12/23/13.

Accession Number: 20131223-5176.

Comments Due: 5 p.m. ET 1/13/14.

Docket Numbers: ER14-816-000.

Applicants: PJM Interconnection, L.L.C.

Description: PJM Interconnection, L.L.C. submits Queue Position V4-025; Original Service Agreement No. 3676 to be effective 11/21/2013.

Filed Date: 12/23/13.

Accession Number: 20131223-5178.

Comments Due: 5 p.m. ET 1/13/14.

Docket Numbers: ER14-817-000.

Applicants: New York Independent System Operator, Inc.

Description: New York Independent System Operator, Inc. submits NYISO tariff revision re: Incremental TCCs to be effective 2/21/2014.

Filed Date: 12/23/13.

Accession Number: 20131223-5186.

Comments Due: 5 p.m. ET 1/13/14.

Docket Numbers: ER14-818-000.

Applicants: PJM Interconnection, L.L.C.

Description: PJM Interconnection, L.L.C. submits Queue Position V4-025; Original Service Agreement No. 3677 to be effective 11/21/2013.

Filed Date: 12/23/13.

Accession Number: 20131223-5191.

Comments Due: 5 p.m. ET 1/13/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2013.
Nathaniel J. Davis, Sr.,
Deputy Secretary.

[FR Doc. 2013-31381 Filed 12-31-13; 8:45 am]

BILLING CODE 6717-01-P